DEPARTMENT OF ENERGY

Federal Energy Regulatory Commission

[Docket Nos. CP09-43-000]

Heavenly Valley, L.P.; Notice of Filing

December 30, 2008.

Take notice that on December 22, 2008, Heavenly Valley, L.P. (Heavenly Valley) filed an application, pursuant to Section 7(c) of the Natural Gas Act (NGA) and Part 157 of the Commission's Rules and Regulations, to request certificates of public convenience and necessity authorizing Heavenly Valley to construct, own, and operate a natural gas pipeline in Eldorado County, California and Douglas County, Nevada (Powderbowl Pipeline); and to continue operating an existing 4,500 feet pipeline system at Heavenly Mountain. The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

The Powderbowl Pipeline is a 1.86-mile, 4-inch diameter natural gas pipeline that will begin at Southwest Gas Corporation's existing above-ground meter station interconnection on the Nevada side and be terminated at the to-be-constructed Powderbowl Lodge on the California side. The Powderbowl Pipeline will be constructed entirely in Heavenly Valley's property. Heavenly Valley also seeks authorization to continue operating the existing 4,500-feet pipeline which was constructed by Heavenly Valley's predecessor in 2000 and has been operated by Heavenly Valley. The 4,500-feet pipeline is also confined in Heavenly Valley's property. These facilities will provide gas for heating and cooking at the Powderbowl Lodge. Heavenly Valley plans to complete construction of the proposed facilities by October 15, 2009.

Any questions regarding the application are to be directed to Andrew Strain, Vice President of Planning and Government Affairs, Heavenly Mountain Resort, P. O. Box 2180, Stateline, NV 89449, phone (775) 586-2313.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001(a)(1)(iii) and the instructions on the Commission's Web site under the “e-Filing” link. The Commission strongly encourages electronic filings.

Comment Date: January 21, 2009.

Kimberly D. Bose,
Secretary.

[FR Doc. E8-31429 Filed 1-6-09; 8:45 am]

BILLING CODE 6717-01-P